DEPARTMENT OF LABOR

Employment and Training Administration

[NAFTA-3265]

Georgia-Pacific Corporation Chlorine Plant, Bellingham, Washington; Amended Certification Regarding Eligibility to Apply for NAFTA-Transitional Adjustment Assistance

In accordance with section 250(a), Subchapter D, Chapter 2, Title II, of the Trade Act of 1974, as amended (19 USC 2331), on December 7, 1999, the Department of Labor issued a Notice of Revised Determination on Reconsideration regarding eligibility to apply for NAFTA Transitional Adjustment Assistance, applicable to some of the workers of the Georgia-Pacific Corporation in Bellingham, Washington. The notice was published in the Federal Register December 21, 1999 (64 FR 71505).

The Department, on its own motion, reviewed that December 7, 1999 decision, because of questions it received as to the group of workers covered by the decision.

The initial NAFTA-TAA petition for the workers of the subject firm was filed with the Washington Employment and Security Department on June 17, 1999, by the Association of Western Pulp & Paper Workers on behalf of the workers producing chlorine and related byproducts. The petition investigation revealed that the affected workers were employed in the Chlorine Plant of the subject firm in Bellingham. Two other plants of the subject firm in Bellingham produced pulp and paper.

The initial investigation resulted in a negative determination issued on August 10, 1999, applicable to workers of Georgia-Pacific Corporation Chlorine Plant, Bellingham, Washington. The notice was published in the Federal Register on September 29, 1999 (64 FR 52542).

On December 7, 1999, the negative determination was revised on reconsideration as new evidence was presented that the layoffs of workers at the Chlorine Plant were attributable to increased imports from Canada of articles like or directly competitive with the chlorine produced by the workers at Georgia-Pacific in Bellingham. Although the December 7, 1999, revised determination noted that, “The workers at the subject firm produced liquefied chlorine gas and a byproduct, liquid caustic soda,” it concluded that “All workers of Georgia-Pacific Corporation, Bellingham, Washington, . . . are eligible to apply for NAFTA-TAA, under Section 250 of the Trade Act of 1974, as amended.” Thus, the revised determination failed to make clear that it intended to limit eligibility to the workers engaged in employment related to the production of liquefied chlorine gas and liquid caustic soda at the Chlorine Plant of Georgia-Pacific, Bellingham, Washington.

In order to clarify that eligibility was limited to the workers at the Chlorine Plant, the Department issued an April 2, 2001 Amended Notice of Revised Determination on Reopening. However, because of an error in that Notice, it was not published in the Federal Register. Accordingly, the Department is now amending the December 7, 1999 Notice, which will be published in the Federal Register, to clarify the covered group of workers.

Therefore, effective with the date of the publication of this notice in the Federal Register, no worker of the Georgia-Pacific Corporation, Bellingham, Washington, outside the intended class, workers who worked at the Chlorine Plant, will be covered by the certification. As to workers who, because of the unclear December 7, 1999 decision, were found by the Washington Employment and Security Department to be covered by the certification prior to the date of publication of this Federal Register notice, they may continue to receive benefits. Additionally, the Department will not seek overpayments for benefits those workers received prior to the publication of this notice in the Federal Register.

The notice applicable to NAFTA-3265 is hereby issued as follows:

“All workers of the Georgia-Pacific Corporation, Chlorine Plant, Bellingham, Washington, who became totally or partially separated from employment on or after June 16, 1998, through December 7, 2001, are eligible to apply for NAFTA-TAA under Section 250 of the Trade Act of 1974.”

Signed in Washington, D.C. this 9th day of April 2001.
Linda G. Poole,
Certifying Officer, Division of Trade Adjustment Assistance.

[FR Doc. 01-9312 Filed 4-12-01; 8:45 am]

BILLING CODE 4510-30-M